DEPARTMENT OF THE INTERIOR

Bureau of Land Management

[L19900000.PO0000.LLCOF00000]

Notice of Intent To Solicit Nominations for the Front Range Resource Advisory Council, Colorado

AGENCY: Bureau of Land Management, Interior.

ACTION: Notice.

SUMMARY: The purpose of this notice is to reopen the request for public nominations for the Bureau of Land Management (BLM) Front Range Resource Advisory Council (RAC), which has five member terms expiring this year. The Front Range RAC provides advice and recommendations to the BLM on land use planning and management of the public lands in eastern Colorado. The BLM will accept public nominations for 30 days after the publication of this notice.

DATES: All nominations must be received no later than November 2, 2015.

ADDRESSES: Send nomination packages to Courtney Whiteman, Public Affairs Specialist, BLM Colorado State Office, 2850 Youngfield St., Lakewood, CO 80215.

FOR FURTHER INFORMATION CONTACT: Courtney Whiteman, Public Affairs Specialist, BLM Colorado State Office. Phone: (303) 239-3668. Email: cwhiteman@blm.gov.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs, found at 43 CFR subpart 1784, require that each RAC include the following three membership categories:

Category One—Holders of Federal grazing permits and representatives of organizations associated with energy and mineral development, timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in natural sciences, and the public-at-large.

Those who have already submitted a nomination in response to the first and second calls for nominations to the Front Range RAC (published in the Federal Register on February 3, 2015, (80 FR 5785) and May 21, 2015 (80 FR 29332)) do not need to resubmit. All nominations from the first, second and third calls will be considered together during the review process. Individuals may nominate themselves or others. Nominees must be residents of Colorado. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils.

The following must accompany all nominations for the Front Range RAC:

—Letters of reference from represented interests or organizations;

—A completed Resource Advisory Council application; and

—Any other information that addresses the nominee's qualifications.

Simultaneous with this notice, the BLM Royal Gorge Field Office will issue a press release providing additional information for submitting nominations, with specifics about the number and categories of member positions available.

Authority: 43 CFR 1784.4-1.

Ruth Welch,
BLM Colorado State Director.

[FR Doc. 2015-25142 Filed 10-1-15; 8:45 am]

BILLING CODE 4310-JB-P